CENTRAL INTELLIGENCE AGENCY

32 CFR Part 1901

Privacy Act

AGENCY: Central Intelligence Agency.

ACTION: Proposed rule.

SUMMARY: Consistent with the Privacy Act (PA), the Central Intelligence Agency (CIA) has undertaken and completed a review of its public PA regulations that govern certain aspects of its processing of PA access and amendment requests. As a result of this review, the Agency proposes to revise its PA regulations to more clearly reflect the current CIA organizational structure and policies and practices, and to eliminate ambiguous, redundant and obsolete regulatory provisions. As required by the PA, the Agency is providing an opportunity for interested persons to submit comments on these proposed regulations.

DATES: Submit comments on or before November 22, 2011.

ADDRESSES: Send comments to the Director, Information Management Services, Central Intelligence Agency, Washington, DC 20505, or fax to (703) 613-3020.

FOR FURTHER INFORMATION CONTACT: Joseph W. Lambert, (703) 613-1379.

SUPPLEMENTARY INFORMATION: Consistent with the Privacy Act (PA), the CIA has undertaken and completed a review of its public PA regulations. As a result of this review, the Agency proposes to revise its PA regulations to update the title of the head of the CIA and to streamline the appeals structure.

List of Subjects in 32 CFR Part 1901

Classified information, Privacy Act.

As stated in the preamble, the CIA proposes to amend 32 CFR part 1901 as follows:

PART 1901—PUBLIC RIGHTS UNDER THE PRIVACY ACT OF 1974

1. The authority citation for part 1901 is revised to read as follows:

Authority: National Security Act of 1947, as amended; Central Intelligence Agency Act of 1949, as amended; Privacy Act, as amended.

2. Amend § 1901.02, by adding paragraphs (o) and (p) to read as follows:

§ 1901.02 Definitions.

* * * * *

(o) Director of Central Intelligence Agency means the head of the Central Intelligence Agency.

(p) Agency Release Panel (ARP) refers to the Agency's forum for reviewing information review and release policy, the adequacy of resources available to all Agency declassification and release programs, and hearing appeals in accordance with this section.

§ 1901.41 [Amended]

3. Revise § 1901.41 to read as follows:

§ 1901.41 Designation of authority to hear appeals.

(a) Agency Release Panel (ARP). Appeals of initial adverse decisions under the Privacy Act shall be reviewed by the ARP which shall issue the final Agency decision.

(b) ARP Membership. The ARP is chaired by the Chief, Information Review and Release Group, Information Management Services, and composed of the Information Review Officers from the various Directorates and the Director, Central Intelligence Agency (D/CIA) areas, as well as the representatives of the various release programs and offices. The Information and Privacy Coordinator also serves as Executive Secretary of the ARP.

4. In § 1901.42, revise paragraph (d) to read as follows:

§ 1901.42 Right of appeal and appeal procedures.

* * * * *

(d) Receipt, recording, and tasking. The Agency shall promptly record each administrative appeal, acknowledge receipt to the requester in writing, and thereafter affect the necessary taskings to the Director(s) in charge of the directorate(s) which originated or has an interest in the record(s) subject to the appeal. As used herein, the term Director in charge of a directorate includes an equivalent senior official within the D/CIA area, as well as a designee known as the Information Review Officer for a directorate or area.

§ 1901.43 [Removed and Reserved]

5. Remove and reserve § 1901.43

6. In § 1901.44, revise paragraph (b) and remove and reserve paragraph (c) to read as follows:

§ 1901.44 Action by appeals authority.

* * * * *

(b) Decision. The Agency Review Panel (ARP) shall meet on a regular schedule and may take action when a simple majority of the total membership is present. In all cases of a divided vote, before the decision of the ARP becomes final, any member of the ARP may by written memorandum to the Executive Secretary of the ARP, refer such matters to the Director, Information Management Services (D/IMS) for decision. In the event of a disagreement with any decision by D/IMS, Directorate heads may appeal to the Associate Deputy Director, CIA (ADD) for resolution. The final Agency decision shall reflect the vote of the ARP, unless changed by the D/IMS or the ADD.

§ 1901.45 [Amended]

7. In § 1901.45, revise paragraph (a) to read as follows:

§ 1901.45 Notification of decision and right of judicial review.

(a) In general. The Executive Secretary of the Agency Review Panel shall promptly prepare and communicate the final Agency decision to the requester. With respect to any decision to deny a request, that correspondence shall state the reasons for the decision and include a notice of a right to seek judicial review.

* * * * *

Dated: August 10, 2011.
Joseph W. Lambert,
Director, Information Management Services.

[FR Doc. 2011-21575 Filed 9-22-11; 8:45 am]

BILLING CODE 6310-02-P